DEPARTMENT OF THE INTERIOR

Fish and Wildlife Service

[FWS-R2-ES-2016-N121; FXES11130200000C2-XXX-FF02ENEH00]

Endangered and Threatened Wildlife and Plants; Jaguar Draft Recovery Plan

AGENCY: Fish and Wildlife Service, Interior.

ACTION: Notice of availability; request for comment.

SUMMARY: We, the Fish and Wildlife Service (Service), announce the availability of our draft recovery plan for the jaguar, which is listed as endangered under the Endangered Species Act of 1973, as amended (Act). This species is currently found in 19 countries ranging from the United States to Argentina. The draft recovery plan includes specific recovery objectives and criteria to be met to enable us to remove this species from the list of endangered and threatened wildlife and plants. We request review and comment on this plan from local, State, and Federal agencies; Tribes; and the public. We will also accept any new information on the status of the jaguar throughout its range to assist in finalizing the recovery plan.

DATES: To ensure consideration, we must receive written comments on or before March 20, 2017. However, we will accept information about any species at any time.

ADDRESSES: If you wish to review the draft recovery plan, you may obtain a copy by any one of the following methods:

Internet: Access the file at either web address below http://ecos.fws.gov/ecp0/profile/speciesProfile?spcode=A040 (scroll down to Recovery) https://www.fws.gov/southwest/es/arizona/Jaguar.htm (click Recovery Planning)

U.S. mail: U.S. Fish and Wildlife Service, Arizona Ecological Services Office, 9828 North 31st Avenue, #C3, Phoenix, AZ 85051-2517; or

Telephone: (602) 242-0210.

If you wish to comment on the draft recovery plan, you may submit your comments in writing by any one of the following methods:

• U.S. mail: Jaguar Recovery Coordinator, at the Phoenix, AZ, address;

• Hand-delivery: Arizona Ecological Services Office, at the Phoenix, AZ, address;

• Fax: (602) 242-2513; or

• Email: Jaguar_Recovery@fws.gov.

For additional information about submitting comments, see the “Request for Public Comments” section below.

FOR FURTHER INFORMATION CONTACT: Steve Spangle, Project Leader Arizona Ecological Services, at the above address and phone number, or by email at incomingazcorr@fws.gov.

SUPPLEMENTARY INFORMATION:

Background

Recovery of endangered or threatened animals and plants to the point where they are again secure, self-sustaining members of their ecosystems is a primary goal of our endangered species program and the Act (16 U.S.C. 1531 et seq.). Recovery means improving the listed species' status to the point at which listing is no longer appropriate under the criteria set out in section 4(a)(1) of the Act. The Act requires developing recovery plans for listed species, unless such a plan would not promote the conservation of a particular species. The jaguar was addressed in “Listed Cats of Texas and Arizona Recovery Plan (with Emphasis on the Ocelot)” (1990), but only general information and recommendations to assess jaguar status in the United States and Mexico, and protect and manage occupied and potential habitat in the United States, were presented. No specific recovery recommendations or objectives for the jaguar were provided. In 2007, the USFWS made a determination under section 4(f)(1) of the Act that developing a formal recovery plan at this time would not promote jaguar conservation. The rationale for this determination was that for the purposes of formal recovery planning, the jaguar qualifies as an exclusively foreign species (see Memorandum for details at http://www.fws.gov/southwest/es/arizona/Documents/SpeciesDocs/Jaguar/Exclusion%20from%20Recovery%20Planning.pdf). The Service was subsequently litigated on this determination and the presiding judge remanded the decision regarding recovery planning back to the Service. Subsequently, in 2010, the Service made a new determination that developing a recovery plan would contribute to jaguar conservation and, therefore, the Service should prepare a recovery plan (http://www.fws.gov/southwest/es/arizona/Documents/SpeciesDocs/Jaguar/JaguarRPmemo1-12-10.pdf).

Species History

The jaguar is fully protected at the national level across most of its range and is recognized by a number of Federal, State, and international lists of protected species. The species was listed as endangered on March 30, 1972 (37 FR 6476), in accordance with the Endangered Species Conservation Act of 1969, a precursor to the Act. The jaguar is currently listed as an endangered species throughout its range under the Act, with critical habitat designated in the southwestern U.S. The species' current recovery priority number is 5C, indicating it has a high degree of threat due to habitat loss, a low potential for recovery, a taxonomic classification as a species, and a state of conflict between it and humans.

In addition to the listing under the Act, the jaguar is fully protected at the national level across most of its range, and in Mexico is listed as endangered by the Secretaría de Medio Ambiente y Recursos Naturales, or Federal Ministry of the Environment and Natural Resource (SEMARNAT 2010). Jaguars in Arizona are also on the Arizona Game and Fish Department's list of “Species of Greatest Conservation Need.”

The jaguar is the largest felid in the New World (Seymour 1989). Rangewide, jaguars measure about 1.5-2.4 meters (5-8 feet) from nose to tip of tail and weigh from 36-158 kilograms (80-348 pounds) (Seymour 1989, Nowak 1999). Males are typically larger than females (Seymour 1989). The overall coat of a jaguar is typically pale yellow, tan, or reddish yellow above, and generally whitish on the throat, belly, insides of the limbs, and underside of the tail, with prominent dark rosettes or blotches throughout (Seymour 1989).

Jaguars historically ranged from the southern United States to central Argentina (Swank and Teer 1989, Caso et al. 2008). Currently, they range from the southwestern United States to northern Argentina, and are found in all countries historically occupied except for El Salvador and Uruguay (Zeller 2007). Tobler et al. (2013) estimate that more than 80 percent of the currently occupied range lies in the Amazon. The jaguar is thought to be extant (based on expert opinion) in about 11,700,000 km² (4,517,395 mi²), which represents 61 percent of its historical range (Zeller 2007).

The jaguar, as a large carnivore, is more vulnerable to extinction than many other land mammals. Loss of habitat, direct killing of jaguars, and depletion of prey are the primary factors contributing to its current status; the jaguar is considered to have a decreasing population trend according to the International Union for Conservation of Nature (IUCN) (Caso et al. 2008). The legal protected status in countries throughout its range does not appear to have secured jaguars in their core or corridor areas. Small and isolated jaguar populations do not appear to be highly persistent (Haag et al. 2010, Rabinowitz and Zeller 2010). Additionally, jaguars require sufficient prey, and when prey is overharvested, jaguars may turn to livestock to meet their dietary needs, resulting in retaliatory killing of jaguars by humans.

While the recovery plan and strategy consider the jaguar throughout its range, the Service and Jaguar Recovery Team (JRT) focus the details of this recovery plan on the Northwestern Recovery Unit (NRU). The United States contains only a small proportion of the jaguar's range and habitat, and the Service has limited resources and little authority to address the major threats (killing and habitat destruction) to the jaguar's recovery outside its own borders. Also, our knowledge regarding the status of the species in much of its range is very limited, and we lack the resources and authority to coordinate large-scale international research and recovery for the entire species. The management and recovery of listed species outside of United States borders, including the jaguar, are primarily the responsibility of the countries in which the species occur, with the help, as appropriate, of available technical and monetary assistance from the United States. However, we have an established relationship with Mexico to address a number of issues of mutual concern, including managing cross-border populations of rare and endangered species. Thus, it is appropriate to focus our efforts and resources on conservation of the jaguar in the northwestern part of its range (the NRU) as our contribution toward an international effort to conserve and recover the jaguar rangewide. We therefore focused this plan primarily on the NRU, which covers portions of the United States and Mexico, but also include recommendations for the Pan-American Recovery Unit (PARU), which includes the rest of the species' range.

Recovery Plan Goals

The recovery goal is to ultimately delist the jaguar. To achieve that goal, viable jaguar populations should be secured throughout their range by removing, reducing, and mitigating the primary threats to the jaguar (habitat loss and fragmentation, illegal killing, and unsustainable depletion of jaguar prey resources). This will require protecting jaguar habitat quantity, quality, and connectivity; providing incentives to protect jaguars and their habitat; reducing human-caused mortality of jaguars, particularly retaliatory killing due to livestock depredation; improving, enacting, and/or enforcing effective laws that regulate illegal killing of jaguars, jaguar prey, and habitat loss; securing adequate funding to implement recovery actions; and maintaining and developing partnerships in the Americas, particularly in Mexico. These protections are needed and must remain in place after delisting to ensure the long-term viability of the species. Due to past habitat loss, it is unlikely that jaguars will be fully self-sustaining throughout their historical range; however, conservation of key jaguar habitat (including core and connective areas) and populations will be critical to the recovery of jaguars.

To achieve that goal, the recovery plan for the jaguar identifies the following Recovery Objectives:

(1) Ascertain the status and conservation needs of the jaguar.

(2) Assess and maintain or improve genetic fitness, demographic conditions, and the health condition of the jaguar.

(3) Assess and maintain or improve the status of native prey populations.

(4) Assess, protect, and restore quantity, quality, and connectivity of habitat to support viable populations of jaguars.

(5) Assess, minimize, and mitigate the effects of expanding human development on jaguar survival and mortality where possible.

(6) Minimize direct human-caused mortality of jaguars.

(7) Ensure long-term jaguar conservation through adequate funding, public education and outreach, and partnerships.

(8) Practice adaptive management in which recovery is monitored and recovery tasks are revised by the USFWS in coordination with the JRT as new information becomes available.

The draft recovery plan contains recovery criteria based on stabilizing or improving current populations, protecting habitat, and reducing threats to the species. To achieve recovery criteria, various management actions are needed. When the status of the jaguar meets these criteria, the species will no longer meet the conditions of being endangered throughout a significant portion of its range and will no longer warrant listing.

Request for Public Comments

Section 4(f) of the Act requires us to provide public notice and an opportunity for public review and comment during recovery plan development. It is also our policy to request peer review of recovery plans (July 1, 1994; 59 FR 34270). We will summarize and respond to the issues raised by the public and peer reviewers and post our responses on our Web site. Substantive comments may or may not result in changes to the recovery plan; comments regarding recovery plan implementation will be forwarded as appropriate to Federal or other entities so they can be taken into account during the course of implementing recovery actions. Responses to individual commenters will not be provided, but we will provide a summary of how we addressed substantive comments on our Web site (https://www.fws.gov/southwest/es/arizona/Jaguar.htm).

We invite written comments on the draft recovery plan. In particular, we are interested in additional information regarding the current threats to the species and the costs associated with implementing the recommended recovery actions.

Before we approve our final recovery plan, we will consider all comments we receive by the date specified in DATES. Methods of submitting comments are in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the U.S. Fish and Wildlife Service, Branch of Recovery (see FOR FURTHER INFORMATION CONTACT section).

Authority

We developed our draft recovery plan under the authority of section 4(f) of the Act, 16 U.S.C. 1533(f). We publish this notice under section 4(f) of the Endangered Species Act of 1973, as amended (16 U.S.C. 1531 et seq.).

Dated: November 15, 2016.
Benjamin N. Tuggle,
Regional Director, Southwest Region, Fish and Wildlife Service.

[FR Doc. 2016-30584 Filed 12-19-16; 8:45 am]

BILLING CODE 4333-15-P